DEPARTMENT OF HEALTH AND HUMAN SERVICES

Health Care Financing Administration

42 CFR Parts 410, 411, 414, 415, and 485

[HCFA-1065-CN]

RIN 0938-AJ61

Medicare Program; Revisions to Payment Policies Under the Physician Fee Schedule for Calendar Year 2000

AGENCY: Health Care Financing Administration (HCFA), HHS.

ACTION: Correction of final rule with comment period.

SUMMARY: This document corrects technical errors that appeared in the final rule with comment period published in the Federal Register on November 2, 1999, entitled “Medicare Program; Revisions to Payment Policies Under the Physician Fee Schedule for Calendar Year 2000.”

EFFECTIVE DATE: January 1, 2000.

FOR FURTHER INFORMATION CONTACT: Diane Milstead, (410) 786-3355.

SUPPLEMENTARY INFORMATION:

Background

In FR Doc. 99-28367 of November 2, 1999, (64 FR 59380), there were a number of technical errors. The errors relate to the omission of language discussing payment for pulse oximetry, temperature gradient studies and venous pressure determinations and the removal of the x-ray requirement before chiropractic manipulation; acceptance of the RUC recommendations for work relative value units (RVUs); RUC recommendations for CPT codes 17276 and 95165; a comment on codes in the “zero work” pool; discussion of CPT code 61862 and the correct billing procedures; and regulations text definitions concerning the coverage of prostate screening. Additionally there are various revisions to Addenda B and C.

The provisions in this correction notice are effective as if they had been included in the document published in the Federal Register on November 2, 1999, that is, January 1, 2000.

Discussion of Addenda B and C

1. On page 39626 of the July 22, 1999 proposed rule, we discussed revising the work RVUs for certain pediatric surgical services to reflect more appropriate data. We inadvertently omitted these work RVU changes from Addendum B of the November 2, 1999 final rule. Entries on the pages listed below are corrected as follows: Page 59451 for CPT code 21740; page 59476 for CPT codes 38550 and 38555; page 59477 for CPT code 39503; page 59479 for CPT codes 42810 and 42815; page 59480 for CPT codes 43305, 43310, 43312, and 43831; page 59482 for CPT codes 45120 and 45121; page 59483 for CPT codes 46715, 46716, 46730, 46735, 46740, and 46751; page 59484 for CPT codes 47700 and 47701; page 59485 for CPT codes 49215, 49495, 49580, 49600, 49605, and 49606; page 59488 for CPT code 51940; and page 59495 for CPT code 60280. These corrections are reflected in correction number 8 to follow.

2. On page 59421 of the November 2, 1999 final rule, we assigned 5.85 work RVUs to CPT code 61885. We inadvertently omitted this value from Addenda B and C. Entries on the pages listed below are corrected as follows: Page 59497 and page 59582 for CPT code 61885. These corrections are reflected in correction number 9 to follow.

3. In Addendum B, we assigned incorrect status indicators for the following CPT codes: Page 59553 for CPT codes 94760 and 94761; and page 59578 for HCFA Common Procedure Coding System (HCPCS) codes Q0183, Q0184, Q0185, Q0186, Q1001, Q1002, Q1003, Q1004, and Q1005. These corrections are reflected in correction number 10 to follow.

4. On page 39630 of the July 22, 1999 proposed rule, we discussed accepting the RUC work RVU recommendations for five CPT codes that were carrier priced for 1999. The status of these codes would also change from Carrier Priced (C) to Active (A) in the final rule. We inadvertently omitted the work RVUs, status indicator, and correct global indicator changes from Addendum B of the final rule. Entries on the pages listed below are corrected as follows: Page 59473 for CPT code 35500; page 59475 for CPT code 36823; page 59476 for CPT code 38792; page 59495 for CPT 60650 (renumbered from CPT code 56321 for which we accepted the RUC recommendation); page 59476 for CPT code 38120 (renumbered from CPT code 56345 for which we accepted the RUC recommendation); and page 59481 for CPT code 44201 (renumbered from CPT code 56347 for which we accepted the RUC recommendation). In addition, we failed to reflect the practice expense values assigned to these codes. These corrections are reflected in correction 11 to follow.

5. In Addendum B, we inadvertently published incorrect global periods for CPT codes 33968, 47560, 62263, 96570 and 96571. Entries on pages listed below are corrected as follows: Pages 59472 and 59582 for CPT code 33968; page 59484 for CPT code 47560; pages 59497 and 59582 for CPT code 62263; and pages 59556 and 59583 for CPT codes 96570 and 96571. These corrections are reflected in correction number 12 to follow.

6. On page 39629 of the July 22, 1999 proposed rule, we proposed changing ventricular assist device insertions, CPT codes 33975 and 33976, to an XXX global and reducing the work RVUs accordingly. In the November 2, 1999 final rule, in Addendum B, we changed the global periods to XXX but inadvertently failed to reduce the work RVUs as stated in the proposed rule. Entries on the page listed below are corrected as follows: Page 59472 for CPT codes 33975 and 33976. In addition, we failed to show the adjustments to the CPEP data made to accommodate the changing global periods. These corrections are reflected in correction number 13 to follow.

7. In Addendum B, we inadvertently assigned incorrect practice expense and malpractice RVUs to HCPCS codes G0102, G0104, G0105, and incorrect malpractice relative value units for CPT codes 59000 through 59899. Entries on the pages listed below are corrected as follows: Page 59571 for HCPCS codes G0102, G0104, and G0105; pages 59494 and 59495 for CPT codes 59000 through 59899. These corrections are reflected in correction number 14 to follow.

8. On pages 59448 and 59582 of Addendum B, we assigned an incorrect procedure status and global period to CPT code 20979. Entries on pages listed below are corrected as follows: Pages 59448 and 59582 for CPT code 20979. These corrections are reflected in correction number 15 to follow.

9. In Addendum B, we inadvertently assigned incorrect practice expense RVUs for HCPCS codes G0106, G0106-26, G0106-TC, G0120, G0120-26, G0120-TC, G0170, G0171 and CPT code 45378-53. Entries on pages listed below are corrected as follows: Page 59571 for HCPCS codes G0106, G0106-26, G0106-TC, G0120, G0120-26 and G0120-TC; page 59572 and page 59583 for G0170 and G0171; and page 59482 for CPT 45378-53. These corrections are reflected in correction number 16 to follow.

10. We incorrectly denoted that CPT code 40814 was not applicable in a non-facility setting. On page 59477 of Addendum B, the applicable practice expense values are included for the nonfacility setting for CPT code 40814. These corrections are reflected in correction number 17 to follow.

11. In Addendum B, we assigned incorrect practice expense and/or malpractice RVUs for HCPCS codes G0163, G0163-26, G0163-TC, G0164, G0164-26, G0164-TC, G0165, G0165-26, and G0165-TC. Entries on the pages listed below are corrected as follows: Page 59571 for HCPCS codes G0163, G0163-26, and G0163-TC and page 59572 for G0164, G0164-26, G0164-TC, G0165, G0165-26 and G0165-TC. These corrections are reflected in correction number 18 to follow.

Correction of Errors

In FR Doc. 99-28367 of November 2, 1999, make the following corrections:

1. On page 59395, second column, after the sixth full paragraph, add the following:

CPT code 17276, Destruction, malignant lesion, any method scalp, neck, hands, feet, genitalia; lesion diameter over 4.0cm

The RUC forwarded a recommendation for supplies. We accepted the recommendation but deleted what appeared to be duplicated gauze supplies.”

2. On page 59398, first column, after the last paragraph insert the following:

“CPT Code 95165, professional services for the supervision and provision of antigens for allergen immunotherapy.

The nature of the RUC's recommendation regarding this code was significantly different than its recommendations regarding other codes. The RUC did not examine the direct expense inputs for code 95165 but commented on the definition of dose used for claims involving this code. Because the direct expense inputs have not been reviewed, we believe that it is not appropriate to revise the practice expense value at this time.”

3. On page 59406, in the last line of column two, insert the words “, in Table 7,” between the words “95956” and “should”.

4. On page 59413, column three, after line 7, add the following:

“Result of Evaluation of Comments:

We are adopting our proposal to bundle payment for these services beginning January 2000 with the exception of code 94762, which we will continue to pay separately when continuous overnight monitoring is medically necessary as a separate procedure.

M. Removal of Requirement for X-ray Before Chiropractic Manipulation

We are conforming our regulations to section 4513(a) of the BBA that deleted the requirement that a spinal subluxation be demonstrated by an x-ray for a chiropractor to receive payment under Medicare Part B for manual manipulation of the spine to correct a subluxation.

Comment: We received one comment requesting we revise § 410.22 (Limitations on services of a chiropractor) to recognize chiropractors as physicians for purposes of ordering and furnishing diagnostic tests and other services and supplies related to manual manipulation for treatment of subluxation of the spine.

Response: We believe that extending the scope of services of the chiropractor to include other services, such as ordering and furnishing diagnostic tests, is inconsistent with section 1861(r) of the Act. Thus, we cannot implement this comment.

Comment: Two commenters expressed concern that the x-ray requirement has been removed without being replaced by clear”

5. On page 59418, in the third column, line 6 from the top, replace “69” with “85”, and line 9, replace “31” with “15”.

§ 410.39 [Corrected]

6. On page 59440, in the second column, § 410.39 is corrected by adding paragraphs (a)(4) and (a)(5) as follows:

§ 410.39 Prostate cancer screening tests: Conditions for and limitations on coverage.

* * * * *

(a) * * *

(4) A physician for purposes of this provision means a doctor of medicine or osteopathy (as defined in section 1861(r)(1) of the Act) who is fully knowledgeable about the beneficiary, and who would be responsible for explaining the results of the screening examination or test.

(5) A physician assistant, nurse practitioner, clinical nurse specialist, or certified nurse midwife for purposes of this provision means a physician assistant, nurse practitioner, clinical nurse specialist, or certified nurse midwife (as defined in sections 1861(aa) and 1861(gg) of the Act) who is fully knowledgeable about the beneficiary, and who would be responsible for explaining the results of the screening examination or test.

* * * * *

7. On page 59440, in the second and third columns, in § 410.39, paragraphs (b) and (d), add the phrase “as defined in paragraphs (a)(4) or (a)(5) of this section,” after the word “midwife.”

Addendum B [Corrected]

8. In the table of Addendum B, the following CPT codes are corrected to read as follows:

CPT¹/HCPCS² | MOD | Status | Description | Physician Work RVUs³ | Fully implemented nonfacility PE RVUs | Year 2000 transitional nonfacility PE RVUs | Fully implemented facility PE RVUs | Year 2000 transitional facility PE RVUs | Malpractice RVUs | Fully Implemented non facility total | Year 2000 transitional nonfacility total | Fully implemented facility total | Year 2000 transitional facility total | Global
21740 |  | A | Reconstruction of sternum | 16.80 | NA | NA | 15.80 | 12.78 | 1.95 | NA | NA | 34.55 | 31.53 | 090
38550 |  | A | Removal, neck/armpit lesion | 6.92 | NA | NA | 5.24 | 4.38 | 0.50 | NA | NA | 12.66 | 11.80 | 090
38555 |  | A | Removal, neck/armpit lesion | 14.14 | NA | NA | 11.47 | 9.68 | 1.53 | NA | NA | 27.14 | 25.35 | 090
39503 |  | A | Repair of diaphragm hernia | 37.54 | NA | NA | 14.98 | 21.16 | 3.26 | NA | NA | 55.78 | 61.96 | 090
42810 |  | A | Excision of neck cyst | 3.25 | 4.77 | 4.09 | 3.83 | 3.62 | 0.27 | 8.29 | 7.61 | 7.35 | 7.14 | 090
42815 |  | A | Excision of neck cyst | 7.07 | NA | NA | 6.06 | 7.35 | 0.55 | NA | NA | 13.68 | 14.97 | 090
43305 |  | A | Repair esophagus and fistula | 17.39 | NA | NA | 12.60 | 13.74 | 1.32 | NA | NA | 31.31 | 32.45 | 090
43310 |  | A | Repair of esophagus | 27.47 | NA | NA | 17.64 | 18.04 | 3.07 | NA | NA | 48.18 | 48.58 | 090
43312 |  | A | Repair esophagus and fistula | 30.50 | NA | NA | 23.15 | 19.02 | 3.46 | NA | NA | 57.11 | 52.98 | 090
43831 |  | A | Place gastrostomy tube | 7.84 | NA | NA | 4.15 | 4.90 | 0.74 | NA | NA | 12.73 | 13.48 | 090
45120 |  | A | Removal of rectum | 25.00 | NA | NA | 11.45 | 14.62 | 2.31 | NA | NA | 38.76 | 41.93 | 090
45121 |  | A | Removal of rectum and colon | 27.51 | NA | NA | 12.98 | 12.35 | 2.65 | NA | NA | 43.14 | 42.51 | 090
46715 |  | A | Repair of anovaginal fistula | 7.46 | NA | NA | 4.31 | 4.06 | 0.86 | NA | NA | 12.63 | 12.38 | 090
46716 |  | A | Repair of anovaginal fistula | 12.85 | NA | NA | 6.50 | 6.54 | 1.21 | NA | NA | 20.56 | 20.60 | 090
46730 |  | A | Construction of absent anus | 22.39 | NA | NA | 11.74 | 11.70 | 1.91 | NA | NA | 36.04 | 36.00 | 090
46735 |  | A | Construction of absent anus | 27.02 | NA | NA | 12.15 | 13.15 | 2.59 | NA | NA | 41.76 | 42.76 | 090
46740 |  | A | Construction of absent anus | 24.19 | NA | NA | 10.40 | 11.47 | 2.31 | NA | NA | 36.90 | 37.97 | 090
46751 |  | A | Repair of anal sphincter | 8.77 | NA | NA | 5.53 | 4.98 | 0.86 | NA | NA | 15.16 | 14.61 | 090
47700 |  | A | Exploration of bile ducts | 15.62 | NA | NA | 8.23 | 8.26 | 1.37 | NA | NA | 25.22 | 25.25 | 090
47701 |  | A | Bile duct revision | 29.55 | NA | NA | 13.21 | 11.06 | 2.87 | NA | NA | 45.63 | 43.48 | 090
49215 |  | A | Excise sacral spine tumor | 23.20 | NA | NA | 10.50 | 9.86 | 2.18 | NA | NA | 35.88 | 35.24 | 090
49495 |  | A | Repair inguinal hernia, init | 5.84 | NA | NA | 3.67 | 4.54 | 0.56 | NA | NA | 10.07 | 10.94 | 090
49580 |  | A | Repair umbilical hernia | 3.34 | NA | NA | 2.74 | 3.47 | 0.34 | NA | NA | 6.42 | 7.15 | 090
49600 |  | A | Repair umbilical lesion | 10.96 | NA | NA | 5.66 | 5.69 | 0.95 | NA | NA | 17.57 | 17.60 | 090
49605 |  | A | Repair umbilical lesion | 24.94 | NA | NA | 11.31 | 10.31 | 2.20 | NA | NA | 38.45 | 37.45 | 090
49606 |  | A | Repair umbilical lesion | 21.31 | NA | NA | 8.89 | 8.96 | 1.91 | NA | NA | 32.11 | 32.18 | 090
51940 |  | A | Correction of bladder defect | 28.43 | NA | NA | 13.38 | 16.98 | 1.90 | NA | NA | 43.71 | 47.31 | 090
60280 |  | A | Remove thyroid duct lesion | 5.87 | NA | NA | 4.86 | 6.06 | 0.48 | NA | NA | 11.21 | 12.41 | 090
¹ CPT codes and descriptions only are copyright 1999 American Medical Association. All Rights Reserved. Applicable FARS/DFARS Apply.
² Copyright 1994 American Dental Association. All rights reserved (D0110-D9999).
³ + Indicates RVUs are not used for Medicare payment.
⁴ PE RVUs = Practice Expense Relative Value Units.

9. In the table of Addenda's B and C, the following CPT code is corrected to read as follows:

CPT ¹/HCPCS ² | MOD | Status | Description | Physician work RVUs ³ | Fully implemented nonfacility PE RVUs ⁴ | Year 2000 transitional nonfacility PE RVUs ⁴ | Fully implemented facility PE RVUs ⁴ | Year 2000 transitional facility PE RVUs ⁴ | Malpractice RVUs | Fully implemented nonfacility total | Year 2000 transitional non-facility total | Fully implemented facility total | Year 2000 transitional facility total | Global
61885 |  | A | Implant neurostim one array | 5.85 | NA | NA | 4.86 | 6.06 | 0.48 | NA | NA | 11.21 | 12.41 | 090
¹ CPT codes and descriptions only are copyright 1999 American Medical Association. All Rights Reserved. Applicable FARS/DFARS Apply.
² Copyright 1994 American Dental Association. All rights reserved (D0110-D9999).
³ + Indicates RVUs are not used for Medicare payment.
⁴ PE RVUs = Practice Expense Relative Value Units.

10. In the table of Addendum B, the following HCPCS codes are corrected to read as follows:

CPT ¹/HCPCS ² | MOD | Status | Description | Physician work RVUs ³ | Fully implemented nonfacility PE RVUs ⁴ | Year 2000 transitional nonfacility PE RVUs ⁴ | Fully implemented facility PE RVUs ⁴ | Year 2000 transitional facility PE RVUs ⁴ | Malpractice RVUs | Fully implemented nonfacility total | Year 2000 transitional non-facility total | Fully implemented facility total | Year 2000 transitional facility total | Global
Q0183 |  | X | Nonmetabolic active tissue | 0.00 | 0.00 | 0.00 | 0.00 | 0.00 | 0.00 | 0.00 | 0.00 | 0.00 | 0.00 | XXX
Q0184 |  | X | Metabolically active tissue | 0.00 | 0.00 | 0.00 | 0.00 | 0.00 | 0.00 | 0.00 | 0.00 | 0.00 | 0.00 | XXX
Q0185 |  | X | Metabolic active D/E tissue | 0.00 | 0.00 | 0.00 | 0.00 | 0.00 | 0.00 | 0.00 | 0.00 | 0.00 | 0.00 | XXX
Q0186 |  | X | Paramedic intercept, rural | 0.00 | 0.00 | 0.00 | 0.00 | 0.00 | 0.00 | 0.00 | 0.00 | 0.00 | 0.00 | XXX
Q1001 |  | X | Ntiol category 1 | 0.00 | 0.00 | 0.00 | 0.00 | 0.00 | 0.00 | 0.00 | 0.00 | 0.00 | 0.00 | XXX
Q1002 |  | X | Ntiol category 2 | 0.00 | 0.00 | 0.00 | 0.00 | 0.00 | 0.00 | 0.00 | 0.00 | 0.00 | 0.00 | XXX
Q1003 |  | X | Ntiol category 3 | 0.00 | 0.00 | 0.00 | 0.00 | 0.00 | 0.00 | 0.00 | 0.00 | 0.00 | 0.00 | XXX
Q1004 |  | X | Ntiol category 4 | 0.00 | 0.00 | 0.00 | 0.00 | 0.00 | 0.00 | 0.00 | 0.00 | 0.00 | 0.00 | XXX
Q1005 |  | X | Ntiol category 5 | 0.00 | 0.00 | 0.00 | 0.00 | 0.00 | 0.00 | 0.00 | 0.00 | 0.00 | 0.00 | XXX
94760 |  | T | Measure blood oxygen level | 0.00 | 0.08 | 0.18 | 0.08 | 0.18 | 0.02 | 0.10 | 0.20 | 0.10 | 0.20 | XXX
94761 |  | T | Measure blood oxygen level | 0.00 | 0.15 | 0.42 | 0.15 | 0.42 | 0.05 | 0.20 | 0.47 | 0.20 | 0.47 | XXX
¹ CPT codes and descriptions only are copyright 1999 American Medical Association. All Rights Reserved. Applicable FARS/DFARS Apply.
² Copyright 1994 American Dental Association. All rights reserved (D0110-D9999).
³ + Indicates RVUs are not used for Medicare payment.
⁴ PE RVUs = Practice Expense Relative Value Units.

11. In the table of Addendum B, the following CPT codes are corrected to read as follows:

CPT ¹/HCPCS ² | MOD | Status | Description | Physician work RVUs³ | Fully implemented nonfacility PE RVUs | Year 2000 trasitional nonfacility PE RVUs | Fully implemented facility PE RVUs | Year 2000 transitional facility PE RVUs | Malpractice RVUs | Fully implemented nonfacility total | Year 2000 transitional facility total | Fully implemented facility total | Year 2000 transitional facility total | Global
35500 |  | A | Harvest vein for bypass | 6.45 | NA | NA | 2.43 | 2.43 | 0.73 | NA | NA | 9.61 | 9.61 | ZZZ
36823 |  | A | Insert cannula(s) | 21.00 | NA | NA | 11.54 | 11.54 | 0.67 | NA | NA | 33.21 | 33.21 | 090
38120 |  | A | Laparoscopic splenectomy | 17.00 | NA | NA | 7.83 | 7.83 | 1.04 | NA | NA | 25.87 | 25.87 | 090
38792 |  | A | Identify sentinel node | 0.52 | NA | NA | 0.20 | 0.20 | 0.01 | NA | NA | 0.73 | 0.73 | 000
44201 |  | A | Laparoscopic jejunostomy | 9.78 | NA | NA | 3.61 | 3.61 | 1.35 | NA | NA | 14.74 | 14.74 | 090
60650 |  | A | Laparoscopy adrenalectomy | 20.00 | NA | NA | 9.10 | 9.10 | 1.35 | NA | NA | 30.45 | 30.45 | 090
¹ CPT codes and descriptions only are copyright 1999 American Medical Association. All Rights Reserved. Applicable FARS/DFARS Apply.
² Copyright 1994 American Dental Association. All rights reserved (D0110-D9999).
³ + Indicates RVUs are not used for Medicare payment.
⁴ PE RVUs = Practice Expense Relative Value Units.

12. In the table of Addenda's B and/or C, the following CPT codes are corrected to read as follows:

CPT ¹/HCPC ² | MOD | Status | Description | Physician work RVUs³ | Fully implemented nonfacility PE RVUs | Year 2000 trasitional nonfacility PE RVUs | Fully implemented facility PE RVUs | Year 2000 transitional facility PE RVUs | Malpractice RVUs | Fully implemented nonfacility total | Year 2000 transitional facility total | Fully implemented facility total | Year 2000 transitional facility total | Global
33968 |  | A | Remove aortic assist device | 0.64 | 0.25 | 0.25 | 0.25 | 0.25 | 0.27 | 1.16 | 1.16 | 1.16 | 1.16 | 000
47560 |  | A | Laparoscopy w/ cholangio | 4.89 | N/A | N/A | 1.95 | 2.48 | 0.46 | N/A | N/A | 7.30 | 7.83 | 000
62263 |  | A | Lysis epidural adhesions | 6.02 | 4.61 | 4.61 | 2.18 | 2.18 | 0.88 | 11.51 | 11.51 | 9.08 | 9.08 | 010
96570 |  | A | Photodynamic tx, 30 min | 1.10 | 0.71 | 0.71 | 0.43 | 0.43 | 0.28 | 2.09 | 2.09 | 1.81 | 1.81 | ZZZ
96571 |  | A | Photodynamc tx, addl 15 min | 0.55 | 0.31 | 0.31 | 0.21 | 0.21 | 0.28 | 1.14 | 1.14 | 1.04 | 1.04 | ZZZ
¹ CPT codes and descriptions only are copyright 1999 American Medical Association. All Rights Reserved. Applicable FARS/DFARS Apply.
² Copyright 1994 American Dental Association. All rights reserved (D0110-D9999).
³ + Indicates RVUs are not used for Medicare payment.
⁴ PE RVUs = Practice Expense Relative Value Units.

13. In table of Addendum B, the following CPT codes are corrected to read as follows:

CPT ¹/HCPC ² | MOD | Status | Description | Physician work RVUs³ | Fully implemented nonfacility PE RVUs | Year 2000 trasitional nonfacility PE RVUs | Fully implemented facility PE RVUs | Year 2000 transitional facility PE RVUs | Malpractice RVUs | Fully implemented nonfacility total | Year 2000 transitional facility total | Fully implemented facility total | Year 2000 transitional facility total | Global
33975 |  | A | Implant ventricular device | 21.00 | NA | NA | 16.80 | 16.10 | 2.86 | NA | NA | 40.66 | 39.96 | XXX
33976 |  | A | Implant ventricular device | 23.00 | NA | NA | 18.65 | 19.82 | 3.91 | NA | NA | 45.56 | 46.73 | XXX
¹ CPT codes and descriptions only are copyright 1999 American Medical Association. All Rights Reserved. Applicable FARS/DFARS Apply.
² Copyright 1994 American Dental Association. All rights reserved (D0110-D9999).
³ + Indicates RVUs are not used for Medicare payment.
⁴ PE RVUs = Practice Expense Relative Value Units.

14. In table of Addendum B, the following CPT codes are corrected to read as follows:

CPT ¹/HCPC ² | MOD | Status | Description | Physician work RVUs³ | Fully implemented nonfacility PE RVUs | Year 2000 trasitional nonfacility PE RVUs | Fully implemented facility PE RVUs | Year 2000 transitional facility PE RVUs | Malpractice RVUs | Fully implemented nonfacility total | Year 2000 transitional facility total | Fully implemented facility total | Year 2000 transitional facility total | Global
G0102 |  | A | Prostate ca screening; dre | 0.17 | 0.51 | 0.37 | 0.06 | 0.09 | 0.01 | 0.69 | 0.55 | 0.24 | 0.27 | XXX
G0104 |  | A | CA screen; flexi sigmoidscope | 0.96 | 1.35 | 1.34 | 0.33 | 0.46 | 0.07 | 2.38 | 2.37 | 1.36 | 1.49 | 000
G0105 |  | A | Colorectal scrn; hi risk ind | 3.70 | 5.99 | 5.24 | 1.29 | 2.86 | 0.26 | 9.95 | 9.20 | 5.25 | 6.82 | 000
59000 |  | A | Amniocentesis | 1.30 | 1.54 | 1.30 | 0.49 | 0.77 | 0.19 | 3.03 | 2.79 | 1.98 | 2.26 | 000
59012 |  | A | Fetal cord punture, prenatal | 3.45 | NA | NA | 1.38 | 2.11 | 0.51 | NA | NA | 5.34 | 6.07 | 000
59015 |  | A | Chorion biopsy | 2.20 | 1.27 | 1.29 | 0.85 | 1.08 | 0.32 | 3.79 | 3.81 | 3.37 | 3.60 | 000
59020 |  | A | Fetal contract stress test | 0.66 | 0.78 | 1.06 | 0.78 | 1.06 | 0.21 | 1.65 | 1.93 | 1.65 | 1.93 | 000
59020 | 26 | A | Fetal contract stress test | 0.66 | 0.26 | 0.53 | 0.26 | 0.53 | 0.13 | 1.05 | 1.32 | 1.05 | 1.32 | 000
59020 | TC | A | Fetal contract stress test | 0.00 | 0.52 | 0.53 | 0.52 | 0.53 | 0.08 | 0.60 | 0.61 | 0.60 | 0.61 | 000
59025 |  | A | Fetal non-stress test | 0.53 | 0.43 | 0.55 | 0.43 | 0.55 | 0.10 | 1.06 | 1.18 | 1.06 | 1.18 | 000
59025 | 26 | A | Fetal non-stress test | 0.53 | 0.20 | 0.31 | 0.20 | 0.31 | 0.08 | 0.81 | 0.92 | 0.81 | 0.92 | 000
59025 | TC | A | Fetal non-stress test | 0.00 | 0.23 | 0.24 | 0.23 | 0.24 | 0.02 | 0.25 | 0.26 | 0.25 | 0.26 | 000
59030 |  | A | Fetal scalp blood sample | 1.99 | NA | NA | 0.77 | 1.24 | 0.30 | NA | NA | 3.06 | 3.53 | 000
59050 |  | A | Fetal monitor w/ report | 0.89 | NA | NA | 0.34 | 0.61 | 0.12 | NA | NA | 1.35 | 1.62 | XXX
59051 |  | A | Fetal monitor/interpret only | 0.74 | NA | NA | 0.28 | 0.58 | 0.10 | NA | NA | 1.12 | 1.12 | XXX
59100 |  | A | Remove uterus lesion | 12.35 | NA | NA | 6.05 | 5.27 | 1.80 | NA | NA | 20.20 | 19.42 | 090
59120 |  | A | Treat ectopic pregnancy | 11.49 | NA | NA | 5.73 | 7.13 | 1.67 | NA | NA | 18.89 | 20.29 | 090
59121 |  | A | Treat ectopic pregnancy | 11.67 | NA | NA | 5.84 | 5.84 | 1.70 | NA | NA | 19.21 | 19.21 | 090
59130 |  | A | Treat ectopic pregnancy | 14.22 | NA | NA | 6.89 | 6.68 | 2.07 | NA | NA | 23.18 | 22.97 | 090
59135 |  | A | Treat ectopic pregnancy | 13.88 | NA | NA | 6.76 | 8.73 | 2.01 | NA | NA | 22.65 | 24.62 | 090
59136 |  | A | Treat ectopic pregnancy | 13.18 | NA | NA | 6.49 | 6.62 | 1.92 | NA | NA | 21.59 | 21.72 | 090
59140 |  | A | Treat ectopic pregnancy | 5.46 | NA | NA | 3.40 | 4.23 | 0.79 | NA | NA | 9.65 | 10.48 | 090
59150 |  | A | Treat ectopic pregnancy | 6.89 | NA | NA | 3.95 | 4.44 | 1.00 | NA | NA | 11.84 | 12.33 | 090
59151 |  | A | Treat ectopic pregnancy | 7.86 | NA | NA | 4.01 | 6.68 | 1.15 | NA | NA | 13.02 | 15.69 | 090
59160 |  | A | D & C after delivery | 2.71 | 3.30 | 3.24 | 2.07 | 2.63 | 0.39 | 6.40 | 6.34 | 5.17 | 5.73 | 010
59200 |  | A | Insert cervical dilator | 0.79 | 1.19 | 0.89 | 0.29 | 0.3 | 0.11 | 2.09 | 1.79 | 1.19 | 1.20 | 000
59300 |  | A | Episiotomy or vaginal repair | 2.41 | 1.56 | 1.32 | 0.92 | 0.73 | 0.34 | 4.31 | 4.07 | 3.67 | 3.48 | 000
59320 |  | A | Revision of cervix | 2.48 | NA | NA | 1.30 | 1.62 | 0.36 | NA | NA | 4.14 | 4.46 | 000
59325 |  | A | Revision of cervix | 4.07 | NA | NA | 1.92 | 2.53 | 0.59 | NA | NA | 6.58 | 7.19 | 000
59350 |  | A | Repair of uterus | 4.95 | NA | NA | 1.84 | 2.84 | 0.73 | NA | NA | 7.52 | 8.52 | 000
59400 |  | A | Obstetrical care | 23.06 | NA | NA | 13.44 | 14.86 | 3.35 | NA | NA | 39.85 | 41.27 | MMM
59409 |  | A | Obstetrical care | 13.50 | NA | NA | 5.08 | 7.69 | 1.97 | NA | NA | 20.55 | 23.16 | MMM
59410 |  | A | Obstetrical care | 14.78 | NA | NA | 6.01 | 8.6 | 2.15 | NA | NA | 22.94 | 25.53 | MMM
59412 |  | A | Antepartum manipulation | 1.71 | 1.16 | 1.24 | 0.65 | 0.99 | 0.25 | 3.12 | 3.20 | 2.61 | 2.95 | MMM
59414 |  | A | Deliver placenta | 1.61 | NA | NA | 1.13 | 1.19 | 0.24 | NA | NA | 2.98 | 3.04 | MMM
59425 |  | A | Antepartum care only | 4.81 | 4.62 | 3.88 | 4.62 | 3.1 | 0.71 | 10.14 | 9.40 | 10.14 | 8.62 | MMM
59426 |  | A | Antepartum care only | 8.28 | 7.85 | 6.61 | 7.81 | 5.25 | 1.20 | 17.33 | 16.09 | 17.29 | 14.73 | MMM
59430 |  | A | Care after delivery | 2.13 | 1.14 | 0.78 | 1.14 | 0.68 | 0.32 | 3.59 | 3.23 | 3.59 | 3.13 | MMM
59510 |  | A | Cesarean delivery | 26.22 | NA | NA | 15.40 | 16.87 | 3.82 | NA | NA | 45.44 | 46.91 | MMM
59514 |  | A | Cesarean delivery only | 15.97 | NA | NA | 6.01 | 8.97 | 2.32 | NA | NA | 24.30 | 27.26 | MMM
59515 |  | A | Cesarean delivery | 17.37 | NA | NA | 7.56 | 10.2 | 2.53 | NA | NA | 27.46 | 30.10 | MMM
59525 |  | A | Remover uterus after cesarean | 8.54 | NA | NA | 3.19 | 3.66 | 1.24 | NA | NA | 12.97 | 13.44 | ZZZ
59610 |  | A | Vbac delivery | 24.62 | NA | NA | 9.36 | 12.82 | 3.58 | NA | NA | 37.56 | 41.02 | MMM
59612 |  | A | Vbac delivery only | 15.06 | NA | NA | 5.77 | 8.03 | 2.20 | NA | NA | 23.03 | 25.29 | MMM
59614 |  | A | Vbac care after delivery | 16.34 | NA | NA | 6.29 | 8.74 | 2.38 | NA | NA | 25.01 | 27.46 | MMM
59618 |  | A | Attempted Vbac delivery | 27.78 | NA | NA | 10.51 | 14.43 | 4.05 | NA | NA | 42.34 | 46.26 | MMM
59620 |  | A | Attempted Vbac delivery only | 17.53 | NA | NA | 6.67 | 9.30 | 2.55 | NA | NA | 26.75 | 29.38 | MMM
59622 |  | A | Attempted Vbac after care | 18.93 | NA | NA | 7.27 | 10.05 | 2.76 | NA | NA | 28.96 | 31.74 | MMM
59812 |  | A | Treatment of miscarriage | 3.25 | 4.21 | 4.07 | 2.23 | 3.06 | 0.48 | 7.94 | 7.80 | 5.96 | 6.79 | 090
59820 |  | A | Care of miscarriage | 4.01 | 4.40 | 4.24 | 2.52 | 3.3 | 0.59 | 9.00 | 8.84 | 7.12 | 7.90 | 090
59821 |  | A | Treatment of miscarriage | 4.47 | 4.87 | 3.91 | 2.71 | 2.83 | 0.66 | 10.00 | 9.04 | 7.84 | 7.96 | 090
59830 |  | A | Treat uterus infection | 6.11 | NA | NA | 3.64 | 4.28 | 0.89 | NA | NA | 10.64 | 11.28 | 090
59840 |  | R | Abortion | 3.01 | 4.64 | 4.07 | 2.14 | 2.82 | 0.44 | 8.09 | 7.52 | 5.59 | 6.27 | 010
59841 |  | R | Abortion | 5.24 | 6.01 | 5.04 | 3.35 | 3.71 | 0.75 | 12.00 | 11.03 | 9.34 | 9.70 | 010
59850 |  | R | Abortion | 5.91 | NA | NA | 2.52 | 3.43 | 0.86 | NA | NA | 9.29 | 10.20 | 090
59851 |  | R | Abortion | 5.93 | NA | NA | 2.87 | 3.76 | 0.86 | NA | NA | 9.66 | 10.55 | 090
59852 |  | R | Abortion | 8.24 | NA | NA | 4.34 | 5.16 | 1.19 | NA | NA | 13.77 | 14.59 | 090
59855 |  | R | Abortion | 6.12 | NA | NA | 3.17 | 3.83 | 0.89 | NA | NA | 10.18 | 10.84 | 090
59856 |  | R | Abortion | 7.48 | NA | NA | 3.55 | 4.55 | 1.09 | NA | NA | 12.12 | 13.12 | 090
59857 |  | R | Abortion | 9.29 | NA | NA | 4.28 | 5.52 | 1.36 | NA | NA | 14.93 | 16.17 | 090
59866 |  | R | Abortion (mpr) | 4.00 | NA | NA | 1.55 | 2.33 | 0.58 | NA | NA | 6.13 | 6.91 | 000
59870 |  | A | Evacuate mole of uterus | 4.28 | NA | NA | 2.85 | 3.01 | 0.62 | NA | NA | 7.75 | 7.91 | 090
59871 |  | A | Remove cerclage suture | 2.13 | 1.89 | 1.91 | 0.81 | 1.37 | 0.32 | 4.34 | 4.36 | 3.26 | 3.82 | 000
59898 |  | C | Laparo proc, ob care/delivery | 0.00 | 0.00 | 0.00 | 0.00 | 0.00 | 0.00 | 0.00 | 0.00 | 0.00 | 0.00 | YYY
59899 |  | C | Maternity care procedure | 0.00 | 0.00 | 0.00 | 0.00 | 0.00 | 0.00 | 0.00 | 0.00 | 0.00 | 0.00 | YYY
¹ CPT codes and descriptions only are copyright 1999 American Medical Association. All Rights Reserved. Applicable FARS/DFARS Apply.
² Copyright 1994 American Dental Association. All rights reserved (D0110-D9999).
³ + Indicates RVUs are not used for Medicare payment.
⁴ PE RVUs = Practice Expense Relative Value Units.

15. In table of Addenda B and C, the following CPT code is corrected to read as follows:

CPT ¹/HCPCS ² | MOD | Status | Description | Physician work RVUs ³ | Fully implemented facility PE RVUs | Year 2000 transitional nonfacility PE RVUs | Fully implemented facility PE RVUs | Year 2000 transitional facility PE RVUs | Malpractice RVUs | Fully implemented nonfacility total | Year 2000 transitional nonfacility total | Fully implemented facility total | Year 2000 transitional facility total | Global
20979 |  | N | U.S. bone stimulation | 0.17 | 0.25 | 0.25 | 0.07 | 0.07 | 0.01 | 0.43 | 0.43 | 0.25 | 0.25 | XXX
¹ CPT codes and descriptions only are copyright 1999 American Medical Association. All Rights Reserved. Applicable FARS/DFARS Apply.
² Copyright 1994 American Dental Association. All rights reserved (D0110—D9999).
³ + Indicates RVUs are not used for Medicare payment.
⁴ PE RVUs = Practice Expense Relative Value Units.

16. In the table of Addendum B, the following CPT codes are corrected to read as follows:

CPT ¹/ HCPCS ² | MOD | Status | Description | Physician work RVUs ³ | Fully implemented nonfacility PE RVUs | Year 2000 transitional nonfacility PE RVUs | Fully implemented facility PE RVUs | Year 2000 Transitional nonfacility PE RVUs | Malpractice RVUs | Fully implemented nonfacility total | Year 2000 Transitional nonfacility total | Fully implemented facility total | Year 2000 Transitional facility total | Global
G0106 |  | A | Colon CA screen; barium enema | 0.99 | 2.51 | 2.66 | 2.51 | 2.66 | 0.15 | 3.65 | 3.80 | 3.65 | 3.80 | XXX
G0106 | 26 | A | Colon CA screen; barium enema | 0.99 | 0.27 | 0.38 | 0.27 | 0.38 | 0.04 | 1.30 | 1.41 | 1.30 | 1.41 | XXX
G0106 | TC | A | Colon CA screen; barium enema | 0.00 | 2.24 | 2.28 | 2.24 | 2.28 | 0.11 | 2.35 | 2.39 | 2.35 | 2.39 | XXX
G0120 | A | A | Colon ca scrn barium enema | 0.99 | 2.51 | 2.66 | 2.51 | 2.66 | 0.15 | 3.65 | 3.80 | 3.65 | 3.80 | XXX
G0120 | 26 | A | Colon ca scrn barium enema | 0.99 | 0.27 | 0.38 | 0.27 | 0.38 | 0.04 | 1.30 | 1.41 | 1.30 | 1.41 | XXX
G0120 | TC | A | Colon ca scrn barium enema | 0.00 | 2.24 | 2.28 | 2.24 | 2.28 | 0.11 | 2.35 | 2.39 | 2.35 | 2.39 | XXX
G0170 |  | A | Skin biograft | 1.50 | 3.14 | 3.14 | 1.10 | 1.10 | 0.39 | 5.03 | 5.03 | 2.99 | 2.99 | 10
G0171 |  | A | Skin biograft add-on | 0.38 | 0.30 | 0.30 | 0.15 | 0.15 | 0.39 | 1.07 | 1.07 | 0.92 | 0.92 | ZZZ
45378 | 53 | A | Diagnostic colonoscopy | 0.96 | 1.35 | 1.34 | 0.33 | 0.46 | 0.07 | 2.38 | 2.37 | 1.36 | 1.49 | 000
¹ CPT codes and descriptions only are copyright 1999 American Medical Association. All Rights Reserved. Applicable FARS/DFARS Apply.
² Copyright 1994 American Dental Association. All rights reserved (D0110-D9999).
³ + Indicates RVUs are not used for Medicare payment.
⁴ PE RVUs = Practice Expense Relative Value Units.

17. In the table of Addendum B, the following CPT code is corrected to read as follows:

CPT ¹/ HCPCS ² | MOD | Status | Description | Physician work RVUs ³ | Fully implemented nonfacility PE RVUs | Year 2000 transitional nonfacility PE RVUs | Fully implemented facility PE RVUs | Year 2000 Transitional nonfacility PE RVUs | Malpractice RVUs | Fully implemented nonfacility total | Year 2000 Transitional nonfacility total | Fully implemented facility total | Year 2000 Transitional facility total | Global
40814 |  | A | Excise/repair mouth lesion | 3.42 | 3.64 | 3.58 | 3.64 | 2.70 | 0.25 | 7.31 | 7.25 | 7.31 | 6.37 | 90
¹ CPT codes and descriptions only are copyright 1999 American Medical Association. All Rights Reserved. Applicable FARS/DFARS Apply.
² Copyright 1994 American Dental Association. All rights reserved (D0110-D9999).
³ + Indicates RVUs are not used for Medicare payment.
⁴ PE RVUs = Practice Expense Relative Value Units.

18. In the table of Addendum B, the following HCPCS codes are corrected to read as follows:

CPT ¹/HCPCS ² | MOD | Status | Description | Physician work RVUs³ | Fully implemented nonfacility PE RVUs | Year 2000 transitional nonfacility PE RVUs | Fully implemented facility PE RVUs | Year 2000 transitional facility PE RVUs | Malpractice RVUs | Fully implemented nonfacility total | Year 2000 transitional nonfacility total | Fully implemented facility total | Year 2000 transitional facility total | Global
G0163 |  | A | PET for rec of colorectal ca | 1.50 | 56.21 | 56.21 | 56.21 | 56.21 | 2.06 | 59.77 | 59.77 | 59.77 | 59.77 | XXX
G0163 | 26 | A | PET for rec of colorectal ca | 1.50 | 0.58 | 0.58 | 0.58 | 0.58 | 0.05 | 2.13 | 2.13 | 2.13 | 2.13 | XXX
G0163 | TC | A | PET for rec of colorectal ca | 0.00 | 55.63 | 55.63 | 55.63 | 55.63 | 2.01 | 57.64 | 57.64 | 57.64 | 57.64 | XXX
G0164 |  | A | PET for lymphoma staging | 1.87 | 56.35 | 56.35 | 56.35 | 56.35 | 2.06 | 60.28 | 60.28 | 60.28 | 60.28 | XXX
G0164 | 26 | A | PET for lymphoma staging | 1.87 | 0.72 | 0.72 | 0.72 | 0.72 | 0.05 | 2.64 | 2.64 | 2.64 | 2.64 | XXX
G0164 | TC | A | PET for lymphoma staging | 0.00 | 55.63 | 55.63 | 55.63 | 55.63 | 2.01 | 57.64 | 57.64 | 57.64 | 57.64 | XXX
G0165 |  | A | PET, rec of melanoma/met ca | 1.50 | 56.21 | 56.21 | 56.21 | 56.21 | 2.06 | 59.77 | 59.77 | 59.77 | 59.77 | XXX
G0165 | 26 | A | PET, rec of melanoma/met ca | 1.50 | 0.58 | 0.58 | 0.58 | 0.58 | 0.05 | 2.13 | 2.13 | 2.13 | 2.13 | XXX
G0165 | TC | A | PET, rec of melanoma/met ca | 0.00 | 55.63 | 55.63 | 55.63 | 55.63 | 2.01 | 57.64 | 57.64 | 57.64 | 57.64 | XXX
¹ CPT codes and descriptions only are copyright 1999 American Medical Association. All Rights Reserved. Applicable FARS/DFARS Apply.
² Copyright 1994 American Dental Association. All rights reserved (D0110-D9999).
³ + Indicates RVUs are not used for Medicare payment.
⁴ PE RVUs = Practice Expense Relative Value Units.

(Section 1848 of the Social Security Act (42 U.S.C. 1395w-4)) (Catalog of Federal Domestic Assistance Program No. 93.774, Medicare—Supplementary Medical Insurance Program)

Dated: March 23, 2000.
Brian P. Burns,
Deputy Assistant Secretary for Information Resources Management.

[FR Doc. 00-8717 Filed 4-10-00; 8:45 am]

BILLING CODE 4120-01-P